DEPARTMENT OF ENERGY

Federal Energy Regulatory Commission

[Docket No. IC12-13-000; (FERC-915)]

Commission Information Collection Activities; Comment Request

AGENCY: Federal Energy Regulatory Commission, DOE.

ACTION: Comment request.

SUMMARY: In compliance with the requirements of the Paperwork Reduction Act of 1995, the Federal Energy Regulatory Commission (Commission or FERC) is submitting the information collection FERC-915 (Public Utility Market-Based Rate Authorization Holders—Records Retention Requirement) to the Office of Management and Budget (OMB) for review of the information collection requirements. Any interested person may file comments directly with OMB and should address a copy of those comments to the Commission as explained below. The Commission issued a Notice in the Federal Register (77 FR 28863, 5/16/2012) requesting public comments. FERC received no comments on the FERC-915 and is making this notation in its submittal to OMB.

DATES: Comments on the collection of information are due by September 6, 2012.

ADDRESSES: Comments filed with OMB, identified by the OMB Control No. 1902-0223, should be sent via email to the Office of Information and Regulatory Affairs: oira_submission@omb.gov. Attention: Federal Energy Regulatory Commission Desk Officer. The Desk Officer may also be reached via telephone at 202-395-4718.

A copy of the comments should also be sent to the Federal Energy Regulatory Commission, identified by the Docket No. IC12-13-000, by either of the following methods:

• eFiling at Commission's Web Site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION: Title: FERC-915, Public Utility Market-Based Rate Authorization Holders—Records Retention Requirement.

OMB Control No.:1902-0223.

Type of Request: Three-year extension of the FERC-915 information collection requirements with no changes to the reporting requirements.

Abstract: The Commission has the regulatory responsibility under section 205 of the Federal Power Act to ensure that wholesale sales of electricity are just and reasonable and provided in a non-discriminatory manner. Under section 35.41(d), the Commission requires all sellers with market-based rates to retain all relevant sales documents for five years. Relevant documents include all information upon which they bill their prices charged for electric energy or electric energy products sold pursuant to their market-based rate tariff and the prices reported for use in price indices.

The five-year statute of limitations applies where the Commission seeks civil penalties for violations of the Anti-Manipulation rule or other rules, regulations, or orders to which the price information may be relevant.

The information maintained by the respondents under FERC-915 is used by the Commission to monitor the entities' sales, ensure that the prices are just and reasonable, maintain the integrity of the wholesale jurisdictional sales markets, and ensure that the entities comply with the requirements of the Federal Power Act, the Commission's regulations and any orders authorizing market-based rate sales.

Type of Respondents: Public Utility Market-Based Rate Authorization Holders.

Estimate of Annual Burden ¹: The Commission estimates the total Public Reporting Burden for this information collection as:

¹ Burden is defined as the total time, effort, or financial resources expended by persons to generate, maintain, retain, or disclose or provide information to or for a Federal agency. For further explanation of what is included in the information collection burden, reference 5 Code of Federal Regulations 1320.3.

FERC-915 (IC12-13-000): Public Utility Market-Based Rate Authorization Holders—Records Retention Requirement
| Number of respondents | Number of responses per respondent | Total number of responses | Average burden hours per response | Estimated total annual burden
| (A) | (B) | (A) × (B) = (C) | (D) | (C) × (D)
Electric Utilities with Market-Based Rate Authority | 1,730 | 1 | 1,730 | 1 | 1,730

The total estimated annual cost burden to respondents is $369,638 [$40,655 (labor costs) + $315,792 (record retention/storage cost) + $13,191 (electronic record-keeping cost) = $369,638]

• Labor costs: $40,655 [(1,730 hours ÷ 2 ² = 865 hours * $19/hours ³ = $16,435) + (1730 hours ÷ 2 = 865 * $28/hour ⁴ = $24,220)]

² The Commission assumes 50% of responding entities utilize conventional (i.e. “paper” storage).

³ 2012 average hourly wage of filing clerk working within an electric utility.

⁴ The Commission bases the $28/hour figure on a FERC staff study that included estimating public utility recordkeeping costs.

• Record retention/storage cost (using an estimate of 48,891 cubic feet): $315,792 ⁵

⁵ The Commission bases this figure on industry archival storage costs.

• Electronic record retention/storage cost: $13,191 (1,730 respondents ÷ 2 = 865 respondents * $15.25/hour ⁶ = $13,191).⁷

⁶ Per entity; the Commission bases this figure on the estimated cost to service and to store 1 GB of data (based on the aggregated cost of an IBM advanced data protection server).

⁷ The Commission assumes 50% of responding entities are storing records in electronic formats.

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: August 1, 2012.
Kimberly D. Bose,
Secretary.

[FR Doc. 2012-19266 Filed 8-6-12; 8:45 am]

BILLING CODE 6717-01-P